DEPARTMENT OF EDUCATION

[Docket No.: ED-2023-SCC-0176]

Agency Information Collection Activities; Submission to the Office of Management and Budget for Review and Approval; Comment Request; 2023-24 National Postsecondary Student Aid Study (NPSAS:24) Full-Scale Study—Student Data Collection and Student Records

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before October 30, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2023-24 National Postsecondary Student Aid Study (NPSAS:24) Full-Scale Study—Student Data Collection and Student Records.

OMB Control Number: 1850-0666.

Type of Review: A revision of a currently approved ICR.

Respondents/Affected Public: Individuals and households.

Total Estimated Number of Annual Responses: 109,145.

Total Estimated Number of Annual Burden Hours: 91,185.

Abstract: This request is to conduct the 2023-24 National Postsecondary Student Aid Study (NPSAS:24) Full-Scale Student Data and Student Records Collections. This study is being conducted by the National Center for Education Statistics (NCES), within the Institute of Education Sciences (IES), part of the U.S. Department of Education. This submission covers materials and procedures related to institution sampling, enrollment list collection, and matching to administrative data files as part of the NPSAS:24 data collection. The materials and procedures are based on those developed for previous institution-based data collections, including the 2019-20 National Postsecondary Student Aid Study (NPSAS:20) [OMB #1850-0666 v.23], and the 2017-18 National Postsecondary Student Aid Study Administrative Collection (NPSAS:18-AC) [1850-0666 v.21]. The first NPSAS was implemented by NCES during the 1986-87 academic year to meet the need for national data about significant financial aid issues.

Since 1987, NPSAS has been fielded every 2 to 4 years, most recently during the 2019-20 academic year (NPSAS:20). NPSAS:24 will be nationally-representative. The NPSAS:24 sample size will include about 2,000 institutions from which will be sampled 137,000 nationally representative undergraduate and 25,000 nationally representative graduate students who will be asked to complete a survey and for whom we will collect student records and administrative data. Also, NPSAS:24 is scheduled to serve as the base year for the 2024 cohort of the Baccalaureate and Beyond (B&B) Longitudinal Study, but no funding is available to field follow-up surveys. In the event Congress appropriates additional funds, the NPSAS:24 sampling design will include a nationally representative sample of students who will complete requirements for the bachelor's degree during the NPSAS year (i.e., completed at some point between July 1, 2023, to June 30, 2024). Subsets of questions in the student survey will focus on describing aspects of the experience of students in their last year of postsecondary education, including student debt, education experiences, and preparation activities for those planning to teach at the preK through 12th grade level.

Previous submissions were designed to adequately justify the need for and overall practical utility of the full study, presenting the overarching plan for all phases of the data collection and providing as much detail about the measures to be used as is available at the time of this submission. As part of the completed field test, NCES published a notice in the Federal Register allowing first a 60- and then a 30-day public comment period. Field test materials, procedures, and results have informed this request for clearance for the full-scale study. For this full-scale study, NCES first published a notice in the Federal Register allowing an additional 30-day public comment period on the final details of the NPSAS:24 full-scale study Institution Contacting and List Collection, which was approved in September 2023 (OMB# 1850-0666 v.35). NCES is now submitting a separate clearance package covering the student data collection, including the student record data abstraction and student surveys, for an additional 30-day public comment period.

Dated: September 26, 2023.
Stephanie Valentine,
PRA Coordinator, Strategic Collections and Clearance, Governance and Strategy Division, Office of Chief Data Officer, Office of Planning, Evaluation and Policy Development.

[FR Doc. 2023-21408 Filed 9-28-23; 8:45 am]

BILLING CODE 4000-01-P